SECURITIES AND EXCHANGE COMMISSION

[File No. 500-1]

In the Matter of American Transportation Holdings, Inc.; Order of Suspension of Trading

July 26, 2016.

It appears to the Securities and Exchange Commission that the public interest and the protection of investors require a suspension of trading in the securities of American Transportation Holdings, Inc. (CIK No. 0001404526) because of recent, unusual and unexplained market activity in the company's stock taking place during a suspicious promotional campaign, and because of concerns about the accuracy of publicly available information, including but not limited to company press releases issued in June and July 2016. American Transportation Holdings Inc. is a Nevada corporation with its principal executive offices in Littleton, Colorado, with stock quoted on OTC Link (previously “Pink Sheets”) operated by OTC Markets Group, Inc. under the ticker symbol ATHI.

Therefore, it is ordered, pursuant to Section 12(k) of the Securities Exchange Act of 1934, that trading in the securities of the above-listed company is suspended for the period from 9:30 a.m. EDT on July 26, 2016, through 11:59 p.m. EDT on August 8, 2016.

By the Commission.
Jill M. Peterson,
Assistant Secretary.

[FR Doc. 2016-17965 Filed 7-26-16; 4:15 pm]

BILLING CODE 8011-01-P